FEDERAL COMMUNICATIONS COMMISSION

[FR ID 224937]

Deletion of Item From June 6, 2024 Open Meeting

June 6, 2024.

The following item has been deleted from the list of items scheduled for consideration at the Thursday, June 6, 2024, Open Meeting. Item No. 4 was released by the Commission on June 6, 2024. The item was previously listed in the Commission's Sunshine Notice on Thursday, May 30, 2024.

Item No. | Bureau | Subject
4 | Media | Title: Amendment of the Commission's Rules to Advance the Low Power Television, TV Translator and Class A Television Service (MB Docket No. 24-148); Political Programming and Online Public File Requirements for Low Power Television Stations (MB Docket No. 24-147).
|  | Summary: The Commission will consider a Notice of Proposed Rulemaking regarding updates and amendments to the Commission's rules to address advances in the LPTV Service.

Federal Communications Commission.
Marlene Dortch,
Secretary.

[FR Doc. 2024-12961 Filed 6-12-24; 8:45 am]

BILLING CODE 6712-01-P